DEPARTMENT OF LABOR

Employment and Training Administration

[TA-W-58,807]

Panasonic Shikoku Electronics Corporation of America (PSECA), Including On-Site Leased Workers From Express Personnel Services, Vancouver, WA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 21, 2006, applicable to workers of Panasonic Shikoku Electronics Corporation of America (PSECA), Vancouver, Washington. The notice was published in the Federal Register on April 12, 2006 (71 FR 18771).

At the request of the State agency, the Department reviewed the certification for workers of the subject firm. The workers assemble combination and rear projection televisions (includes DVD/VCR) and act in a support capacity for sales and purchasing.

New information shows that leased workers from Express Personnel Services were employed on-site at the Vancouver, Washington location of Panasonic Shikoku Electronics Corporation of America (PSECA). The Department has determined that these workers were sufficiently under the control of the subject firm.

Based on these findings, the Department is amending this certification to include leased workers from Express Personnel Services working on-site at the Vancouver, Washington location of the subject firm.

The intent of the Department's certification is to include all workers employed at Panasonic Shikoku Electronics Corporation of America (PSECA) who were adversely affected by increased imports.

The amended notice applicable to TA-W-58,807 is hereby issued as follows:

All workers of Panasonic Shikoku Electronic Corporation of America (PSECA), including on-site leased workers from Express Personnel Services, Vancouver, Washington, who became totally or partially separated from employment on or after February 7, 2005, through March 21, 2008, are eligible to apply for adjustment assistance under Section 223 of the Trade Act of 1974, and are also eligible to apply for alternative trade adjustment assistance under Section 246 of the Trade Act of 1974.

Signed at Washington, DC this 30th day of May 2008.
Linda G. Poole,
Certifying Officer, Division of Trade Adjustment Assistance.

[FR Doc. E8-12969 Filed 6-9-08; 8:45 am]

BILLING CODE 4510-FN-P